DEPARTMENT OF HOMELAND SECURITY

Transportation Security Administration

Revision of Agency Information Collection Activity Under OMB Review: TSA PreCheck® Application Program; Correction

AGENCY: Transportation Security Administration, DHS.

ACTION: 30-Day notice; correction.

SUMMARY: This document makes a correction to a 30-day notice published in the Federal Register on August 23, 2024, which involves an Information Collection Request concerning the submission of biographic and biometric information by individuals seeking to enroll in the TSA PreCheck® (also known as TSA Pre✓®) Application Program, as well as optional surveys related to customer service and enrollment processes. TSA erroneously omitted the sentence, “TSA is revising the collection to eliminate two previously approved voluntary surveys, TSA PreCheck Experience survey and Marketing survey, but will continue to conduct the post enrollment, post renewal, and non-renewal surveys.” This document adds the sentence.

DATES: Applicable October 3, 2024.

FOR FURTHER INFORMATION CONTACT: Christina A. Walsh, TSA PRA Officer, Information Technology (IT), TSA-11, Transportation Security Administration, 6595 Springfield Center Drive, VA 22150; telephone (571) 227-2062; email TSAPRA@tsa.dhs.gov.

SUPPLEMENTARY INFORMATION: On August 23, 2024 (89 FR 68183), TSA published a 30-day notice giving notice to the public of TSA's intent to submit the TSA PreCheck® Information Collection Request to OIRA for review. The Information Collection Request concerns the submission of biographic and biometric information by individuals seeking to enroll in the TSA PreCheck® (also known as TSA Pre✓®) Application Program, as well as optional surveys related to customer service and enrollment processes.

In the section titled, “TSA PreCheck® Enrollment and Renewal Enhancements,” and before the burden section titled, Average Annual Number of Respondents” (page 68184, third column, line 54), TSA erroneously omitted the sentence, “TSA is revising the collection to eliminate two previously approved voluntary surveys, TSA PreCheck Experience survey and Marketing survey, but will continue to conduct the post enrollment, post renewal, and non-renewal surveys.” The sentence is needed to show the removal of the surveys from the information collection. Accordingly, the sentence has been added to the 30-day notice.

Correction

In the 30-day notice FR Doc. 2024-19001, published on August 23, 2024 (89 FR 68183), make the following corrections:

On page 68184, in the third column, line 54, correct the section titled “TSA PreCheck® Enrollment and Renewal Enhancements,” by inserting the sentence at the end of the section and before the burden section titled, Average Annual Number of Respondents” to read:

TSA PreCheck® Enrollment and Renewal Enhancements

The introduction of additional enrollment providers, as discussed in the previous ICR revision, allows enrollment providers to offer multiple price points for TSA PreCheck® enrollment and renewal as well as additional enrollment locations, which will allow the public to select the best option for their needs. TSA plans to explore new enrollment capabilities to include remote proctored enrollment ¹ to further expand TSA's ability to service the public. This revision also addresses TSA's plan to accept Mobile Drivers Licenses and other TSA approved Digital Identities for identity verification at enrollment upon TSA approval. Lastly, TSA intends to continue to collect information from TSA PreCheck® members after enrollment through voluntary customer experience surveys to better serve the public. TSA is revising the collection to eliminate two previously approved voluntary surveys, TSA PreCheck Experience survey and Marketing survey, but will continue to conduct the post enrollment, post renewal, and non-renewal surveys.

¹ Remote Proctored Enrollment refers to enrollments conducted in-person by the applicant and monitored remotely by a trusted agent via real-time video stream. The remote trusted agent maintains the integrity of the enrollment by monitoring the entire process from start-to-finish including the collection of identity documents and the traditional capture of contact fingerprints.

Dated: August 27, 2024.
Christina A. Walsh,
TSA Paperwork Reduction Act Officer, Information Technology.

[FR Doc. 2024-19626 Filed 8-30-24; 8:45 am]

BILLING CODE 9110-05-P